DEPARTMENT OF COMMERCE

Foreign-Trade Zones Board

[S-03-2019]

Approval of Subzone Status; Fender Musical Instruments Corporation; San Bernardino and Corona, California

On January 31, 2019, the Executive Secretary of the Foreign-Trade Zones (FTZ) Board docketed an application submitted by the Port of Long Beach, grantee of FTZ 50, requesting subzone status subject to the existing activation limit of FTZ 50, on behalf of Fender Musical Instruments Corporation, in San Bernardino and Corona, California.

The application was processed in accordance with the FTZ Act and Regulations, including notice in the Federal Register inviting public comment (84 FR 2156, February 6, 2019). The FTZ staff examiner reviewed the application and determined that it meets the criteria for approval. Pursuant to the authority delegated to the FTZ Board Executive Secretary (15 CFR Sec. 400.36(f)), the application to establish Subzone 50U was approved on March 20, 2019, subject to the FTZ Act and the Board's regulations, including Section 400.13, and further subject to FTZ 50's 2,000-acre activation limit.

Dated: March 21, 2019.
Andrew McGilvray,
Executive Secretary.

[FR Doc. 2019-05869 Filed 3-26-19; 8:45 am]

BILLING CODE 3510-DS-P